DEPARTMENT OF COMMERCE

International Trade Administration

[C-122-815 (alloy), C-122-815 (pure)]

Pure Magnesium and Alloy Magnesium From Canada; Final Results of Full Sunset Reviews Reviews of Countervailing Duty Orders

AGENCY: Import Administration, International Trade Administration, Department of Commerce.

ACTION: Notice of final results of full sunset reviews: Pure magnesium and alloy magnesium from Canada.

SUMMARY: On February 29, 2000, the Department of Commerce (“the Department”) published in the Federal Register (65 FR 10766) the preliminary results of the full sunset review of the countervailing duty orders on pure magnesium and alloy magnesium from Canada, pursuant to section 751(c) of the Tariff Act of 1930, as amended (“the Act”). We provided interested parties an opportunity to comment on our preliminary results and received comments filed on behalf of domestic and respondent interested parties. As a result of this review, the Department finds that revocation of the countervailing duty orders would be likely to lead to continuation or recurrence of a countervailable subsidy. The net countervailable subsidy and the nature of the subsidy are identified in the Final Results of Review section of this notice.

FOR FURTHER INFORMATION CONTACT: Kathryn B. McCormick or James Maeder, Office of Policy for Import Administration, International Trade Administration, U.S. Department of Commerce, 14th & Constitution, NW., Washington, DC 20230; telephone: (202) 482-1930 or (202) 482-3330, respectively.

EFFECTIVE DATE: July 5, 2000.

Statute and Regulations

These reviews were conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR Part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Scope

The products covered by these orders are pure magnesium and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes. The merchandise is currently classifiable under items 8104.11.0000 and 8104.19.0000 of the Harmonized Tariff Schedule of the United States (“HTSUS”). Although the HTSUS subheadings are provided for convenience and customs purposes, our written description of the scope remains dispositive. Secondary and granular magnesium are not included in the scope of these orders.

Background

On February 29, 2000, the Department of Commerce (“the Department”) published in the Federal Register a notice of preliminary results of the full sunset review of the countervailing duty orders on pure magnesium and alloy magnesium (65 FR 10766) pursuant to section 751(c) of the Tariff Act of 1930, as amended (“the Act”). In our preliminary results, we found that revocation of the orders would likely result in continuation or recurrence of a countervailable subsidy. In addition, we preliminarily determined the net countervailable subsidy likely to prevail if the orders were revoked to be 1.84 percent ad valorem for Norsk Hydro Canada Inc. (“NHCI”) and 4.48 percent ad valorem for “all others.”

On April 14, 2000, within the deadline specified in 19 CFR 351.209(c)(1)(i), we received a case brief on behalf of the Magnesium Corporation of America (“Magcorp”) and respondent interested parties, NHCI and the Government of Quebec (“GOQ”). On April 24, 2000, within the deadline specified in 19 CFR 351.309(d), the Department received rebuttal comments from Magcorp and the GOQ. On March 17, 2000, we received a request for a hearing on behalf of the GOQ. Subsequently, on April 28, 2000, the GOQ withdrew its request and the Department canceled the hearing.

We note that the Department issued the preliminary results of countervailing duty administrative reviews covering the period January 1, 1998 through December 31, 1998 on May 4, 2000 (65 FR 25910).

Analysis of Comments Received

All issues raised in the case and rebuttal briefs by parties to this sunset review are addressed in the “Issues and Decision Memorandum” (“Decision Memo”) from Jeffrey A. May, Director, Office of Policy, Import Administration, to Troy H. Cribb, Acting Assistant Secretary for Import Administration, dated June 27, 2000, which is hereby adopted by this notice. The issues discussed in the Decision Memo include the likelihood of continuation or recurrence of countervailable subsidies and the net countervailable subsidy likely to prevail were the orders revoked. Parties can find a complete discussion of all issues raised in this review and the corresponding recommendations in this public memorandum which is on file in the Central Records Unit, room B-099, of the main Commerce Building.

In addition, a complete version of the Decision Memo can be accessed directly on the Web at www.ita.doc.gov/import_admin/records/frn/, under the heading “Canada.” The paper copy and electronic version of the Decision Memo are identical in content.

Final Results of Review

As a result of this review, the Department finds that revocation of the countervailing duty orders would be likely to lead to continuation or recurrence of a countervailable subsidy at the rates listed below:

Manufacturer/Exporter | Margin (percent)
Norsk Hydro Canada Inc. (“Norsk”) | 1.84
All Others | 4.48

Timminco, which was found to have an estimated net subsidy of zero in the original investigations, remains excluded from the orders.¹

¹ See Final Affirmative Countervailing Duty Determinations: Pure Magnesium and Alloy Magnesium from Canada, 57 FR 30946 (July 13, 1992).

The program included in our calculation of the net countervailable subsidy likely to prevail if the orders were revoked does not fall within the definition of an export subsidy under Article 3.1(a) of the Subsidies Agreement.

This notice serves as the only reminder to parties subject to administrative protective order (“APO”) of their responsibility concerning the disposition of proprietary information disclosed under APO in accordance with 19 CFR 351.305 of the Department's regulations. Timely notification of return/destruction of APO material or conversion to judicial protective order is hereby requested. Failure to comply with the regulations and the terms of an APO is a sanctionable violation.

This five-year (“sunset”) review and notice are in accordance with sections 751(c), 752, and 777(i)(1) of the Act.

Dated: June 27, 2000.
Troy H. Cribb,
Acting Assistant Secretary for Import Administration.

[FR Doc. 00-16947 Filed 7-3-00; 8:45 am]

BILLING CODE 3510-DS-P